ENVIRONMENTAL PROTECTION AGENCY

[FRL-6721-9]

Underground Injection Control Program; Hazardous Waste Disposal Injection Restrictions; Petition for Exemption—Class I Hazardous Waste Injection; E. I. du Pont de Nemours & Company, Inc.

AGENCY: Environmental Protection Agency (EPA).

ACTION: Notice of Final Decision on Injection Well No Migration Petition.

SUMMARY: Notice is hereby given that an exemption to the land disposal restrictions under the 1984 Hazardous and Solid Waste Amendments to the Resource Conservation and Recovery Act has been granted to E. I. du Pont de Nemours & Company, Inc. (Dupont), for five Class I injection wells located at Dupont's White Pigment and Mineral Products DeLisle Plant in DeLisle, Mississippi. As required by 40 CFR Part 148, the company has adequately demonstrated to the satisfaction of the Environmental Protection Agency by petition and supporting documentation that, to a reasonable degree of certainty, there will be no migration of hazardous constituents from the injection zone for as long as the waste remains hazardous. This final decision allows the underground injection by Dupont, of the specific restricted hazardous wastes identified in the exemption, into five Class I hazardous waste injection wells (Plant Wells 2, 3, 4, 5, and 6) at the DeLisle, Mississippi facility, until December 31, 2020, unless EPA moves to terminate the exemption under provisions of 40 CFR 148.24. As required by 40 CFR 148.22(b) and 124.10, a public notice was issued February 29, 2000. A public hearing was held March 30, 2000 at the DeLisle Elementary School. The public comment period closed on April 13, 2000. No comments were received at the public hearing and the only comment letter received prior to the close of the comment period was from Dupont. These comments were not of a significant nature and EPA has determined that its reasons for granting the exemption as set forth in the proposed decision remain valid. This decision constitutes final Agency action and there is no Administrative appeal.

DATES: This action is effective as of May 5, 2000.

ADDRESSES: Copies of the petition and all pertinent information relating thereto are on file at the following location: Environmental Protection Agency, Region 4, Water Management Division, Ground Water/Drinking Water Branch, Ground Water & UIC Section, Atlanta, GA 30303-8960.

FOR FURTHER INFORMATION CONTACT: Andrew Bartlett, Chief Ground Water & UIC Section, EPA Region 4, telephone (404) 562-9478.

Dated: June 14, 2000.
A. Stanley Meiburg,
Acting Regional Administrator, Region 4.

[FR Doc. 00-16074 Filed 6-23-00; 8:45 am]

BILLING CODE 6560-50-P